DEPARTMENT OF DEFENSE

Department of the Army; Corps of Engineers

North Atlantic Coast Comprehensive Study

AGENCY: Department of the Army, U.S. Army Corps of Engineers, DoD.

ACTION: Notice.

SUMMARY: The U.S. Army Corps of Engineers (USACE) is requesting peer reviewed information that would be useful in the preparation of the North Atlantic Coast Comprehensive Study (Hurricane Sandy). The USACE is preparing a report that will be submitted to Congress in 2015. The goals of the North Atlantic Coast Comprehensive Study authorized under the Disaster Relief Appropriations Act, Public Law 113-2 are to (1) provide risk reduction strategies to reduce risk to which vulnerable coastal populations are subject, and (2) promote coastal resilient communities to ensure a sustainable and robust coastal landscape system, considering future sea level rise and climate change scenarios, to reduce risk to vulnerable population, property, infrastructure and ecosystems.

DATES: The USACE will accept data and literature in response to this request until December 31, 2013.

ADDRESSES: Methods for submission include: Email: Send information by electronic mail to: NACCS@usace.army.mil. Please include your name and contact information in the body of your email. Fax: Fax information to: (410-962-4698), ATTN: Mr. David Robbins. Mail: Send information by mail to: Mr. David Robbins, U.S. Army Corps of Engineers, 10 South Howard Street Baltimore Maryland 21201, ATTN: North Atlantic Coast Comprehensive Study.

Electronic files should avoid the use of special characters, any form of encryption, and be free of any defects or viruses. Information on a CD ROM should be formatted as a MS Word, Rich Text, or Adobe Acrobat PDF file.

FOR FURTHER INFORMATION CONTACT: For further information, please contact: Mr. David Robbins, Project Manager, at David.W.Robbins@usace.army.mil, or by telephone at (410) 962-0685.

SUPPLEMENTARY INFORMATION: The Congressional response to the devastation in the wake of Hurricane Sandy included a mandate to address as a regional system the vulnerability of populations at risk in the U.S. Army Corps of Engineers (USACE) North Atlantic Division. The draft analyses of the Comprehensive Study will be coordinated amongst interagency stakeholders in early 2014 and a report will be submitted to Congress in 2015.

The USACE would appreciate receiving information from the public to facilitate the preparation of the Study. The USACE prefers information which has been peer reviewed. Interested persons may provide scientific analyses, studies, and other pertinent scientific information, preferably information which has undergone scientific peer review. The USACE will consider all submissions but will give preference to all peer reviewed data and literature sources. Please understand that not all data and sources provided may be reflected in the draft analyses socialized in early 2014, but the resources will be incorporated into the final report.

Brenda S. Bowen,
Army Federal Register Liaison Officer.

[FR Doc. 2013-24237 Filed 10-3-13; 8:45 am]

BILLING CODE 3720-58-P